DEPARTMENT OF COMMERCE

National Oceanic and Atmospheric Administration

Federal Consistency Appeal by G. Walter Swain

AGENCY: National Oceanic and Atmospheric Administration (NOAA), Department of Commerce (Commerce).

ACTION: Notice of Appeal.

SUMMARY: This announcement provides notice that Mr. G. Walter Swain has filed an administrative appeal with the Department of Commerce asking that the Secretary override the State of Delaware's objection to Mr. Swain's proposed construction of a marina and associated structures at the confluence of Cedar Creek and Mispillion River, in Milford, Delaware.

ADDRESSES: Materials from the appeal record will be available at the NOAA Office of General Counsel for Ocean Services, 1305 East-West Highway, Room 6111, Silver Spring, MD 20910 and on the following Web site: http://www.ogc.doc.gov/czma.htm.

FOR FURTHER INFORMATION CONTACT: Thomas Street, Attorney-Advisor, NOAA Office of the General Counsel, 301-713-7390, thomas.street@noaa.gov.

SUPPLEMENTARY INFORMATION:

I. Notice of Appeal

On February 4, 2008, Mr. G. Walter Swain filed notice of an appeal with the Secretary of Commerce (Secretary), pursuant to the Coastal Zone Management Act of 1972 (CZMA), 16 U.S.C. 1451 et seq., and implementing regulations found at 15 CFR Part 930, Subpart H. Mr. Swain appealed an objection by the State of Delaware in the proposed construction of a marina and associated structures of the confluence of Cedar Creek and Mispillion River, in Milford, Delaware.

Under the CZMA, the Secretary may override Delaware's objection on grounds that the project is consistent with the objectives of the CZMA or otherwise necessary in the interest of national security. To make the determination that the proposed activity is consistent with the objectives of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of Delaware's coastal management program. 15 CFR 930.121.

II. Opportunity for Federal Agency and Public Comment

Pursuant to regulation, the public and interested Federal agencies may submit any comments on this appeal from May 1, 2008-May, 30, 2008. All comments should be directed in writing to Thomas Street, attorney advisor, at the NOAA Office of General Counsel for Ocean Services, 1305 East-West Highway, Room 6111, Silver Spring, MD 20910 or via electronic mail to thomas.street@noaa.gov.

III. Appeal Documents

NOAA intends to provide the public with access to all publicly available materials and related documents comprising the appeal record during business hours, at the NOAA Office of General Counsel for Ocean Services.

For additional information about this appeal, please contact Thomas Street, 301-713-7390 or thomas.street@noaa.gov.

(Federal Domestic Assistance Catalog No. 11.419 Coastal Zone Management Program Assistance.)
Dated: February 26, 2008.
Joel La Bissonniere,
Assistant General Counsel for Ocean Services.

[FR Doc. 08-917 Filed 3-03-08; 8:45 am]

BILLING CODE 3510-08-M